DEPARTMENT OF ENERGY

Federal Energy Regulatory Commission

[Docket No. AD21-10-000]

Modernizing Electricity Market Design; Notice of Technical Conference on Resource Adequacy in the Evolving Electricity Sector

Take notice that the Federal Energy Regulatory Commission (Commission) will convene a Commissioner-led technical conference in the above-referenced proceeding on Tuesday March 23, 2021 from approximately 9:00 a.m. to 4:00 p.m. and Wednesday March 24, 2021 from approximately 9:00 a.m. to 12:00 p.m. Eastern time. The conference will be held remotely. The Commission will issue a supplemental notice providing the agenda for the technical conference.

The conference will be open for the public to attend remotely. There is no fee for attendance. Information on this event will be posted on the Calendar of Events on the Commission's website, www.ferc.gov, prior to the event.

The conference will be transcribed. Transcripts will be available for a fee from Ace Reporting (202-347-3700).

Commission conferences are accessible under section 508 of the Rehabilitation Act of 1973. For accessibility accommodations, please send an email to accessibility@ferc.gov or call toll free 1-866-208-3372 (voice) or 202-208-8659 (TTY), or send a fax to 202-208-2106 with the required accommodations.

For more information about this technical conference, please contact David Rosner at david.rosner@ferc.gov or Emma Nicholson at emma.nicholson@ferc.gov. For information related to logistics, please contact Sarah McKinley at sarah.mckinley@ferc.gov or (202) 502-8368.

Dated: February 18, 2021.
Nathaniel J. Davis, Sr.,
Deputy Secretary.

[FR Doc. 2021-03807 Filed 2-23-21; 8:45 am]

BILLING CODE 6717-01-P